DEFENSE NUCLEAR FACILITIES SAFETY BOARD

Sunshine Act Meeting

Pursuant to the provisions of the “Government in the Sunshine Act” (5 U.S.C. 552b), notice is hereby given of the Defense Nuclear Facilities Safety Board's (Board) meeting described below. The Board will also conduct a public hearing pursuant to 42 U.S.C. 2286b and invites any interested persons or groups to present any comments, technical information, or data concerning safety issues related to defense nuclear activities at Lawrence Livermore National Laboratory (LLNL).

Time and Date of Meeting: 9-12 a.m., September 26, 2002.

Place: Shrine Event Center, 170 Lindbergh Avenue, Livermore, CA 94551.

Status: Open. While the Government in the Sunshine Act does not require that the scheduled discussion be conducted in a meeting, the Board has determined that an open meeting in this specific case furthers the public interests underlying both the Sunshine Act and the Board's enabling legislation.

Matters To Be Considered: The Board's meeting will examine the status of defense nuclear activities at Lawrence Livermore National Laboratory (LLNL). The meeting will first focus on LLNL's implementation of DNFSB Recommendation 2000-2, Configuration Management, Vital Safety Systems. Next, the meeting will review LLNL's implementation of DNFSB Recommendation 94-1, Improved Schedule for Remediation in the Defense Nuclear Facilities Complex, and DNFSB Recommendation 2000-1, Prioritization for Stabilizing Nuclear Materials. Disposition of inactive nuclear material will be included in this discussion. Additionally, the meeting will examine Laboratory support for nuclear explosive operations at the Pantex Plant.

The Board's meeting will provide an opportunity for members of the public, DOE, and its contractor employees or their representatives to comment on or provide information directly to the Board regarding matters affecting health and safety at Lawrence Livermore National Laboratory, including, but not limited to, those subject areas and facilities the Board will review during this visit.

Contact Person for More Information: Kenneth M. Pusateri, General Manager, Defense Nuclear Facilities Safety Board, 625 Indiana Avenue, NW., Suite 700, Washington, DC 20004-2901, (800) 788-4016. This is a toll-free number.

SUPPLEMENTARY INFORMATION: Requests to speak at the meeting may be submitted in writing or by telephone. Commentators should describe the nature and scope of their oral presentations. Those who contact the Board prior to close of business on September 25, 2002, will be scheduled for time slots, beginning at approximately 10 a.m. The Board will post a schedule for those speakers who have contacted the Board before the hearing. The posting will be made at the entrance to the Shrine Event Center at the start of the 9 a.m. meeting.

Anyone who wishes to comment or provide technical information or data may do so in writing, either in lieu of, or in addition to, making an oral presentation. The Board Members may question presenters to the extent deemed appropriate. Documents will be accepted at the meeting or may be sent to the Defense Nuclear Facilities Safety Board's Washington, DC office. The Board will hold the record open until October 26, 2002, for the receipt of additional materials.

The Board reserves the right to further schedule and otherwise regulate the course of the meeting, to recess, reconvene, postpone or adjourn the meeting, conduct further reviews, and otherwise exercise its power under the Atomic Energy Act of 1954, as amended.

Dated: September 9, 2002.
John T. Conway,
Chairman.

[FR Doc. 02-23295 Filed 9-9-02; 5:09 pm]

BILLING CODE 3670-01-P